NATIONAL TRANSPORTATION SAFETY BOARD

Sunshine Act Meeting

TIME AND DATE: 9:30 a.m., Tuesday, May 16, 2000.

PLACE: NTSB Board Room, 429 L'Enfant Plaza, S.W., Washington, D.C. 20594.

STATUS: Open to the public.

MATTERS TO BE CONSIDERED:

7257—Special Investigation Report: Actions to Reduce Fatalities, Injuries, and Crashes Involving the Hard Core Drinking Driver.

7258—Special Investigation Report: Truck Parking Areas.

7154A—Brief of Accident/Safety Recommendation: Resulting from a spill of hydrogen peroxide in cargo compartment on Northwest Airlines Flight 957 from Orlando, Florida to Memphis, Tennessee on October 28, 1998.

NEWS MEDIA CONTACT: Telephone: (202) 314-6100.

Individuals requesting specific accommodation should contact Mrs. Barbara Bush at (202) 314-6220 by Friday, May 12, 2000.

FOR FURTHER INFORMATION CONTACT: Rhonda Underwood (202) 314-6065.

Dated: May 5, 2000.
Rhonda Underwood,
Federal Register Liaison Officer.

[FR Doc. 00-11707 Filed 5-5-00; 2:42 pm]

BILLING CODE 7533-01-M